DEPARTMENT OF THE INTERIOR

National Park Service

[NPS-WASO-NRNHL-DTS#-30854; PPWOCRADI0, PCU00RP14.R50000]

National Register of Historic Places; Notification of Pending Nominations and Related Actions

AGENCY: National Park Service, Interior.

ACTION: Notice.

SUMMARY: The National Park Service is soliciting electronic comments on the significance of properties nominated before September 5, 2020, for listing or related actions in the National Register of Historic Places.

DATES: Comments should be submitted electronically by October 2, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before September 5, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

DELAWARE

New Castle County

American Vulcanized Fibre Company-Wilmington Plant, 700 Maryland Ave., Wilmington, SG100005688

FLORIDA

Seminole County

Georgetown Historic District, East 2nd St., Mellonville, Celery, and Sanford Aves., Sanford, SG100005670

IOWA

Marion County

Pella High School, 712 Union St., Pella, SG100005684

LOUISIANA

Lafayette Parish

Lafayette Central Business District, Roughly bounded by East Cypress, Polk, Barry, Lafayette, West Garfield and South Buchanan Sts., Lee Ave., Rue Bibliotheque, and the RR., Lafayette, SG100005680

Orleans Parish

Louisiana Coca-Cola Bottling Company Plant, 1050 South Jefferson Davis Pkwy., New Orleans, SG100005685

MICHIGAN

Chippewa County

Sault Ste. Marie Historic Commercial District, Ashmun St. between Water and Easterday Sts., Portage Ave. between Brady and Ferris Sts., and Ashmun St. cross street blocks of Ridge, Maple, Arlington, Ann, and Spruce Sts., Sault Ste. Marie, SG100005683

MINNESOTA

Hennepin County

Aaron Carlson Corporation Factory, 1505 Central Ave. NE, Minneapolis, SG100005672

MISSISSIPPI

Webster County

Pittman Log House, 1316 Pepper Town Rd., Eupora vicinity, SG100005671

MISSOURI

Jackson County

Southwestern Bell Administration Building, 500 East 8th St., Kansas City, SG100005679

NEW YORK

Schenectady County

George Washington Carver Community Center, 700 Craig St., Schenectady, SG100005677

SOUTH CAROLINA

Beaufort County

Means-Gage House, 1207 Bay St., Beaufort, SG100005675

Charleston County

Marine Barracks, Charleston Navy Yard, Truxtun Ave. between Marine and Goldberg Aves., North Charleston, SG100005676

Georgetown County

Pee Dee River Rice Planters Historic District (Boundary Increase), (Georgetown County Rice Culture MPS), 1 Ave. of Live Oaks, Pawleys Island vicinity, BC100005674

Additional documentation has been received for the following resources:

OHIO

Cuyahoga County

Scranton South Side Historic District (Additional Documentation), 2314-2658, 3339 Scranton Rd., 1632-2101 Holmden, 1644-2115 Brainard, 1724-2105 Corning, and 1701-2034 Clover Aves., Cleveland, AD15000371

Comment period: 3 days

SOUTH CAROLINA

Georgetown County

Pee Dee River Rice Planters Historic District (Additional Documentation), (Georgetown County Rice Culture MPS), Along the Pee Dee and Waccamaw Rivers, Georgetown vicinity, AD88000532

Nomination submitted by Federal Preservation Officer:

The State Historic Preservation Officer reviewed the following nomination and responded to the Federal Preservation Officer within 45 days of receipt of the nomination and supports listing the property in the National Register of Historic Places.

CALIFORNIA

Ventura County

Burro Flats Cultural District, Address Restricted, Canoga Park vicinity, SG100005678

Authority: Section 60.13 of 36 CFR part 60.

Dated: September 8, 2020,
Sherry A. Frear,
Chief, National Register of Historic Places/National Historic Landmarks Program.

[FR Doc. 2020-20491 Filed 9-16-20; 8:45 am]

BILLING CODE 4312-52-P